DEPARTMENT OF ENERGY

Federal Energy Regulatory Commission

[Project No. 12740-003-VA]

Jordan Hydroelectric Limited Partnership; Notice of Availability of Environmental Assessment

In accordance with the National Environmental Policy Act of 1969 and the Federal Energy Regulatory Commission's regulations, 18 CFR Part 380 (Order No. 486, 52 FR 47897), the Office of Energy Projects has reviewed the application for an original license for the 3.0-megawatt (MW) Flannagan Hydroelectric Project located on the Pound River, at the U.S. Army Corps of Engineers' (Corps) John W. Flannagan Dam and Reservoir, near the Town of Clintwood, in Dickenson County, Virginia, and has prepared an Environmental Assessment (EA). The proposed project would occupy approximately 1 acre of federal land managed by the Corps.

In the EA, Commission staff analyzed the potential environmental effects of licensing the project and conclude that issuing a license for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via e-mail of new filings and issuances related to this or other pending projects. For assistance, contact FERC Online Support.

Comments on the EA should be filed within 30 days from the issuance date of this notice, and should be addressed to the Secretary, Federal Energy Regulatory Commission, 888 First Street, NE., Room 1-A, Washington, DC 20426. Please affix “Flannagan Hydroelectric Project No. 12740-003” to all comments. Comments may be filed electronically via Internet in lieu of paper. The Commission strongly encourages electronic filings. See 18 CFR 385.2001(a)(1)(iii) and the instructions on the Commission's website under the “eFiling” link. For further information contact Gaylord Hoisington by telephone at (202) 502-6032 or by e-mail at gaylord.hoisington@ferc.gov.

Dated: July 27, 2011.
Nathaniel J. Davis, Sr.,
Deputy Secretary.

[FR Doc. 2011-19637 Filed 8-2-11; 8:45 am]

BILLING CODE 6717-01-P